DEPARTMENT OF LABOR

Employment and Training Administration

[TA-W-53,557]

Paxar Americas, Inc., Formerly Paxar Corporation, Monarch Marking Systems Printed Label Division (Snow Hill Tape), Snow Hill, NC; Amended Certification Regarding Eligibility To Apply for Worker Adjustment Assistance

In accordance with section 223 of the Trade Act of 1974 (19 U.S.C. 2273) the Department of Labor issued a Certification of Eligibility to Apply for Worker Adjustment Assistance on November 24, 2003, applicable to workers of Paxar Americas, formerly Paxar Corporation, Printed Label Division (Snow Hill Tape), Snow Hill, North Carolina. The notice was published in the Federal Register on December 29, 2003 (68 FR 74979).

At the request of the State agency, the Department reviewed the certification for workers of the subject firm. The workers are engaged in the production of woven tape.

New information shows that some workers separated from employment at the subject firm had their wages reported under a separate unemployment insurance (UI) tax account for Monarch Marking Systems, Inc.

Accordingly, the Department is amending the certification to properly reflect this matter.

The intent of the Department's certification is to include all workers of Paxar Americas, Inc., formerly Paxar Corporation, Monarch Marking Systems, Inc., Printed Label Division (Snow Hill Tape), Snow Hill, North Carolina, who were adversely affected by a shift in production to Mexico, Honduras and the Dominican Republic.

The amended notice applicable to TA-W-53,557 is hereby issued as follows:

All workers of Paxar Americas, Inc., formerly Paxar Corporation, Monarch Marking Systems, Inc., Printed Label Division (Snow Hill Tape), Snow Hill, North Carolina, who became totally or partially separated from employment on or after November 17, 2002, through November 24, 2005, are eligible to apply for adjustment assistance under section 223 of the Trade Act of 1974.

Signed in Washington, DC, this 29th day of January, 2004.
Linda G. Poole,
Certifying Officer, Division of Trade Adjustment Assistance.

[FR Doc. E4-244 Filed 02-10-04; 8:45 am]

BILLING CODE 4510-13-P